DEPARTMENT OF TRANSPORTATION

Federal Aviation Administration

14 CFR Part 71

[Docket No. FAA-2022-0646; Airspace Docket No. 21-AEA-17]

RIN 2120-AA66

Amendment and Removal of VOR Federal Airways in the Eastern United States

AGENCY: Federal Aviation Administration (FAA), DOT.

ACTION: Final rule.

SUMMARY: This action amends 4 VHF Omnidirectional Range (VOR) Federal Airways, (V-7, V-9, V-106, and V-214); and removes 5 VOR Federal Airways, (V-58, V-130, V-149, V-445, V-451) in support of the FAA's VOR Minimum Operation Network (MON) project.

DATES: Effective date 0901 UTC, November 3, 2022. The Director of the Federal Register approves this incorporation by reference action under 1 CFR part 51, subject to the annual revision of FAA JO Order 7400.11 and publication of conforming amendments.

ADDRESSES: FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2022-0646 in the Federal Register (87 FR 32376; May 31, 2022), amending four and removing seven VOR Federal airways. Interested parties were invited to participate in this rulemaking effort by submitting written comments on the proposal. No comments were received.

Domestic VOR Federal airways are published in paragraph 6010(a) of FAA Order JO 7400.11F, dated August 10, 2021, and effective September 15, 2021, which is incorporated by reference in 14 CFR 71.1. The VOR Federal airways listed in this document will be subsequently published in and removed from FAA Order JO 7400.11.

Differences From the NPRM

The route description of V-7 in the NPRM inadvertently failed to include the amendments to the route as published in an earlier action (86 FR 67377; November 26, 2021) which became effective on January 10, 2022. The amended V-7 consists of two parts: From Dolphin, FL, to Muscle Shoals, AL; and From Pocket City, IN, to the intersection of the Chicago Heights, IL 358° and the Badger, WI 117° radials. This version of the description is modified in the text below.

The NPRM proposed to remove Sidon, MS, from airway V-9. The FAA has decided to retain this point as part of the route.

The NPRM proposed to remove V-379 and V-479. The FAA has decided to retain V-379 and V-479 in effect until a later date.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending 4 VOR Federal Airways, (V-7, V-9, V-106, and V-214), and removing 5 VOR Federal Airways, (V-58, V-130, V-149, V-445, and V-451). The changes are described below.

V-7: V-7 consists of two parts: From Dolphin, FL, to Muscle Shoals, AL; and, From Pocket City, IN, to the intersection of the Chicago Heights, IL 358° and Badger, WI, 117° radials. This rule amends the first part of the route by removing Muscle Shoals, AL, from the route. As amended, the first part of V-7 extends from Dolphin, FL, to Vulcan, AL. The second part of the route remains unchanged as stated above.

V-9: V-9 currently extends from Leeville, LA to Pontiac, IL; and from Janesville, WI, to Houghton, MI. This action removes Gilmore, AR; and Malden, MO, from the route. As amended, V-9 consists of three parts: From Leeville, LA, to Marvell, AR; From Farmington, MO, to Pontiac, IL; and From Janesville, WI, to Houghton, MI.

V-58: V-58 currently consists of two parts: from Philipsburg, PA, to Williamsport, PA; and from the intersection of the Sparta, NJ, 018° and the Kingston NY, 270° radials to Nantucket, MA. This action removes the entire route. Air Navigation (RNAV) route T-216 replaces V-58.

V-106: V-106 currently extends between Johnstown, PA, and the intersection of the Wilkes-Barre, PA, 037°, and the Sparta, NJ, 300° radials. This action removes the segments from Selinsgrove, PA, to the intersection of the above Wilkes-Barre and Sparta radials. As amended, V-106 extends from Johnstown, PA, to the intersection of the Johnstown 068° and the Selinsgrove 259° radials. RNAV route T-212 replaces the segments of V-106 being removed.

V-130: V-130 currently extends from Norwich, CT, to Marthas Vineyard, MA. The FAA is removing the entire route. RNAV route T-255 replaces V-130.

V-149: V-149 currently extends from Allentown, PA, to Binghamton, NY. This action removes the entire route. RNAV route T-221 replaces V-149.

V-214: V-214 currently consists of three parts: From Kokomo, IN, to Muncie, IN; From the intersection of the Appleton, OH, 236° and the Zanesville, OH, 274° radials to Bellaire, OH; and From Martinsburg, WV, to Teterboro, NJ. This action removes the segments from Martinsburg, WV, to Teterboro, NJ. As amended, V-214 extends from Kokomo, IN, to Muncie, IN; and From the intersection of the above Appleton and Zanesville radials to Bellaire, OH. RNAV route T-356 replaces V-214.

V-445: V-445 currently extends from the intersection of the Washington, DC, 065° and the Baltimore, MD, 197° radials, to LaGuardia, NY. This action removes the entire route. RNAV route T-356 replaces portions of this route.

V-451: V-451 currently extends from LaGuardia, NY, to Groton, CT. This route is not being used, therefore, the FAA is removing the entire route. New T-routes have been designed to mirror current routings to and from the New York Metropolitan area.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending four VOR Federal Airways, and removing six VOR Federal Airways, in support of the FAA's VOR MON project, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-7 [Amended]

From Dolphin, FL; INT Dolphin 299° and Lee County, FL, 120° radials; Lee County; Lakeland, FL; Cross City, FL; Seminole, FL; Wiregrass, AL; INT Wiregrass 333° and Montgomery, AL, 129° radials; Montgomery; to Vulcan, AL. From Pocket City, IN; INT Pocket City 016° and Terre Haute, IN, 191° radials; Terre Haute; Boiler, IN; Chicago Heights, IL; to INT Chicago Heights 358° and Badger, WI, 117° radials.

* * * * *

V-9 [Amended]

From Leeville, LA; McComb, MS; INT McComb 004° and Magnolia, MS 194° radials; Magnolia; Sidon, MS; to Marvell, AR. From Farmington, MO; St. Louis, MO; Spinner, IL; to Pontiac, IL. From Janesville, WI; Madison, WI; Oshkosh, WI; Green Bay, WI; Iron Mountain, MI; to Houghton, MI.

* * * * *

V-58 [Removed]

* * * * *

V-106 [Amended] From Johnstown, PA; to INT Johnstown 068° and Selinsgrove, PA, 259° radials.

* * * * *

V-130 [Removed]

* * * * *

V-149 [Removed]

* * * * *

V-214 [Amended] From Kokomo, IN, Marion, IN; to Muncie, IN. From INT Appleton, OH, 236° and Zanesville, OH, 274° radials; Zanesville; to Bellaire, OH.

* * * * *

V-445 [Removed]

* * * * *

V-451 [Removed]

* * * * *

Issued in Washington, DC, on August 31, 2022.
Scott M. Rosenbloom,
Manager, Airspace Rules and Regulations.

[FR Doc. 2022-19288 Filed 9-7-22; 8:45 am]

BILLING CODE 4910-13-P